DEPARTMENT OF LABOR

Employment and Training Administration

[TA-W-59,586C]

Klaussner Furniture Industries, Inc., Candor, NC; Notice of Affirmative Determination Regarding Application for Reconsideration

By application dated August 21, 2006, a company official requested administrative reconsideration of the Department of Labor's Notice of Negative Determination Regarding Eligibility to Apply for Worker Adjustment Assistance, applicable to workers of the subject firm. The Department's determination was issued on July 31, 2006. The Notice of Determination was published in the Federal Register on August 16, 2006 (71 FR 47253).

In the request for reconsideration, the company official provided new information regarding employment declines.

The Department has carefully reviewed the request for reconsideration and has determined that the Department will conduct further investigation based on new information provided.

Conclusion

After careful review of the application, I conclude that the claim is of sufficient weight to justify reconsideration of the Department of Labor's prior decision. The application is, therefore, granted.

Signed at Washington, DC, this 23rd day of August 2006.
Elliott S. Kushner,
Certifying Officer, Division of, Trade Adjustment Assistance.

[FR Doc. E6-14326 Filed 8-28-06; 8:45 am]

BILLING CODE 4510-30-P